DEPARTMENT OF JUSTICE

Antitrust Division

Notice Pursuant to the National Cooperative Research and Production Act of 1993—Fuel Cell Commercialization Group

Notice is hereby given that, on February 16, 2000, pursuant to section 6(a) of the National Cooperative Research and Production Act of 1993, 15 U.S.C. 4301 et seq. (“Act”), the Fuel Cell Commercialization Group (“FCCG”) has filed written notifications simultaneously with the Attorney General and the Federal Trade Commission disclosing changes in its membership status. The notifications were filed for the purpose of extending the Act's provisions limiting the recovery of antitrust plaintiffs to actual damages under specified circumstances. Specifically, City of Burbank Public Service Department, Burbank, CA; and National Energy Research Establishment ((NERE), Amby, Harare, Zimbabwe have been added as parties to this venture. Also, Great River Energy, Elk River, NM; New England Power Service Co., Westboro, MA; and City of Santa Clara Electric Department, Santa Clara, CA have been dropped as parties to this venture.

No other changes have been made in either the membership or planned activity of the group research project. Membership in this group research project remains open, and FCCG intends to file additional written notification disclosing all changes in membership.

On September 21, 1990, FCCG filed its original notification pursuant to section 6(a) of the Act. The Department of Justice published a notice in the Federal Register pursuant to section 6(b) of the Act on October 25, 1990 (55 FR 43050).

The last notification was filed with the Department on March 29, 1999. A notice was published in the Federal Register pursuant to section 6(b) of the Act on May 20, 1999 (64 FR 27603).

Constance K. Robinson,
Director of Operations Antitrust Division.

[FR Doc. 01-6883 Filed 3-19-01; 8:45 am]

BILLING CODE 4410-11-M